NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a meeting of the Advisory Committee on the Medical Uses of Isotopes (ACMUI) on May 15-16, 2023. A sample of agenda items to be discussed during the public session includes: an overview of medical related events; status update on the limited revisions to the abnormal occurrence criteria; a discussion of the potential impacts of the American Board of Radiology's request to cease NRC recognition of their board certification processes; an overview of the current rulemaking to require reporting of certain nuclear medicine injection extravasations; and a review of the draft proposed rule for decommissioning financial assurance for sealed and unsealed radioactive materials. The agenda is subject to change. The current agenda and any updates will be available on the ACMUI's Meetings and Related Documents web page at https://www.nrc.gov/reading-rm/doc-collections/acmui/meetings/2023.html or by emailing Dr. Celimar Valentin-Rodriguez at the contact information below.

Purpose: Discuss issues related to 10 CFR part 35, Medical Use of Byproduct Material.

Date and Time for Open Sessions: May 15, 2023, from 8:30 a.m. to 5 p.m. EDT.

Date and Time for Closed Session: May 16, 2023, from 9 p.m. to 12 p.m. EDT. This session will be closed to conduct the ACMUI's biennial evaluation and presentations for new ACMUI members.

Address for Public Meeting: U.S. Nuclear Regulatory Commission, One White Flint North Building, Commissioner's Hearing Room, 11555 Rockville Pike, Rockville, Maryland 20852.

Date | Webinar information (microsoft teams)
May 15, 2023 | Link: https://teams.microsoft.com/l/meetup-join/19%3ameeting_YjczZTBhYTAtMDE2Ny00YjI3LWI4MGYtZTBkNmQyY2MzYWQw%40thread.v2/0?context=%7b%22Tid%22%3a%22e8d01475-c3b5-436a-a065-5def4c64f52e%22%2c%22Oid%22%3a%225b3cab2a-da77-46d1-b0df-ca02d21f6361%22%7d.
| Meeting ID: 274 828 149 496.
| Passcode: eX9sqR.
| Call in number (audio only): +1 301-576-2978 (Silver Spring, MD, US).
| Phone Conference ID: 571 779 324#.

Public Participation: Any member of the public who wishes to participate in the meeting in person, via Microsoft Teams, or via phone should contact Dr. Valentin-Rodriguez using the information below. Members of the public should also monitor the NRC's Public Meeting Schedule at https://www.nrc.gov/pmns/mtg for any meeting updates.

Contact Information: Dr. Celimar Valentin-Rodriguez, email: cvr2@nrc.gov.

Conduct of the Meeting

The ACMUI Chair, Darlene F. Metter, M.D., will preside over the meeting. Dr. Metter will conduct the meeting in a manner that will facilitate the orderly conduct of business. The following procedures apply to public participation in the meeting:

1. Persons who wish to provide a written statement should submit an electronic copy to Dr. Celimar Valentin-Rodriguez using the contact information listed above. All submittals must be received by the close of business on May 9, 2023, and must only pertain to the topics on the agenda.

2. Questions and comments from members of the public will be permitted during the meeting, at the discretion of the ACMUI Chair.

3. The draft transcript and meeting summary will be available on ACMUI's website https://www.nrc.gov/reading-rm/doc-collections/acmui/meetings/2023.html on or about June 30, 2023.

4. Persons who require special services, such as those for the hearing impaired, should notify Dr. Celimar Valentin-Rodriguez of their planned participation.

This meeting will be held in accordance with the Atomic Energy Act of 1954, as amended (primarily section 161a); the Federal Advisory Committee Act (5 U.S.C. app); and the Commission's regulations in title 10 of the Code of Federal Regulations, part 7. This meeting notice is late because the NRC needed additional time to ensure that the closed session met the Federal Advisory Committee Act guidelines.

Dated at Rockville, Maryland, this 1st day of May, 2023.
For the U.S. Nuclear Regulatory Commission.
Russell E. Chazell,
Federal Advisory Committee Management Officer.

[FR Doc. 2023-09559 Filed 5-4-23; 8:45 am]

BILLING CODE 7590-01-P